DEPARTMENT OF HEALTH AND HUMAN SERVICES

Office of National AIDS Policy Notice of Meeting of the Presidential Advisory Council on HIV/AIDS and its Subcommittees

March 23, 2000.

Pursuant to P.L. 92-463, notice is hereby given of the meeting of the Presidential Advisory Council on HIV/AIDS scheduled for June 5-6, 2000 at the Radisson-Barcelo, Washington, D.C. The meeting of the Presidential Advisory Council on HIV/AIDS will take place on Monday, June 5, and Tuesday, June 6 (8:30 a.m. to 6:00 p.m. on Monday and Tuesday) at the Radisson-Barcelo, 2121 P Street, NW, Washington, D.C. 20037. The meetings will be open to the public.

The purpose of the subcommittee meetings will be to finalize any recommendations and assess the status of previous recommendations made to the Administration. The agenda of the Presidential Advisory Council on HIV/AIDS may include presentations from the Council's subcommittees, Appropriations, International, Prevention, Prison, Racial/Ethnic Populations, Research, and Services Issues.

Daniel C. Montoya, Executive Director, Presidential Advisory Council on HIV and AIDS, Office of National AIDS Policy, 736 Jackson Place, NW, Washington, D.C. 20503, Phone (202) 456-2437, Fax (202) 456-2438, will furnish the meeting agenda and roster of committee members upon request. Any individual who requires special assistance, such as sign language interpretation or other reasonable accommodations, should contact Andrea Hall at (301) 986-4870 no later than May 2, 2000.

Daniel C. Montoya,
Executive Director, Presidential Advisory Council on HIV and AIDS.

[FR Doc. 00-8187 Filed 4-3-00; 8:45 am]

BILLING CODE 3195-01-M